NUCLEAR REGULATORY COMMISSION

[NRC-2020-0192]

Consolidated Decommissioning Guidance, Characterization, Survey, and Determination of Radiological Criteria

AGENCY: Nuclear Regulatory Commission.

ACTION: Draft NUREG; request for comment.

SUMMARY: The Nuclear Regulatory Commission (NRC) is issuing a draft report for comment, NUREG-1757, Volume 2, Revision 2, “Consolidated Decommissioning Guidance, Characterization, Survey, and Determination of Radiological Criteria.” NUREG-1757 has been revised to address lessons learned and experience gained from review of license termination plans, decommissioning plans, and final status surveys for licensees undergoing license termination since the last revision to the document in September 2006. This NUREG is intended for use by applicants, licensees, and the NRC staff.

DATES: Submit comments by February 8, 2021. Comments received after this date will be considered if it is practical to do so, but the NRC is able to ensure consideration only for comments received on or before this date.

ADDRESSES: You may submit comments by any of the following methods; however, the NRC encourages electronic comment submission through the Federal Rulemaking Website:

• Federal Rulemaking Website: Go to https://www.regulations.gov and search for Docket ID NRC-2020-0192. Address questions about Docket IDs in regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. NUREG-1757, Volume 2, Revision 2, is located in ADAMS under Accession Number ML20273A010.

FOR FURTHER INFORMATION CONTACT: Cynthia Barr, Office of Nuclear Material Safety and Safeguards; U.S. Nuclear Regulatory Commission, Washington, DC 20555-0001; telephone: 301-415-4015; email: cynthia.barr@nrc.gov.

SUPPLEMENTARY INFORMATION:

I. Obtaining Information and Submitting Comments

A. Obtaining Information

Please refer to Docket ID NRC-2020-0192 when contacting the NRC about the availability of information for this action. You may obtain publicly available information related to this action by any of the following methods:

• Federal Rulemaking Website: Go to https://www.regulations.gov and search for Docket ID NRC-2020-0192.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. NUREG-1757, Volume 2, Revision 2, is located at ADAMS Accession Number ML20273A010.

• Attention: The PDR, where you may examine and order copies of public documents is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2020-0192 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is issuing for public comment, Revision 2 to NUREG-1757, Volume 2, “Consolidated Decommissioning Guidance, Characterization, Survey, and Determination of Radiological Criteria.” NUREG-1757 has been revised to address lessons learned and experience gained from review of license termination plans, decommissioning plans, and final status surveys for licensees undergoing license termination. The NUREG has been updated to include new guidance related to dose modeling, as low as reasonably achievable (ALARA) criteria, surface water and groundwater characterization, use of engineered barriers, and radiological surveys (e.g., composite sampling, subsurface surveys, and surveys demonstrating indistinguishability from background).

The NRC staff recognizes that the proposed revisions to NUREG-1757 are significant advancements. Licensee may choose to take advantage of these advancements immediately. However, this draft NUREG-1757 is being published for comment, and the NRC staff may make revisions and corrections in the final document. Such changes from draft guidance would not be a change in position because a draft guidance document issued for comment does not constitute a staff position.

This NUREG is intended for use by applicants, licensees, and the NRC staff. The purpose of this notice is to notify the public that NUREG-1757, Volume 2, Revision 2 is being issued as a draft report for comment.

Dated: December 2, 2020.
For the Nuclear Regulatory Commission.
Patricia K. Holahan,
Director, Division of Decommissioning, Uranium Recovery, and Waste Programs, Office of Nuclear Material Safety and Safeguards.

[FR Doc. 2020-26876 Filed 12-7-20; 8:45 am]

BILLING CODE 7590-01-P